DEPARTMENT OF JUSTICE

Notice of Lodging of Proposed Consent Decree Under the Clean Water Act

On June 15, 2017, the Department of Justice lodged a proposed Consent Decree with the United States District Court for the District of New Jersey in the lawsuit entitled United States v. NVR, Inc., Civil Action No. 2:17-cv-04346.

The United States, on behalf of the United States Environmental Protection Agency, filed a Complaint against NVR, Inc., alleging NVR violated the Clean Water Act. NVR engages in residential home construction in a number of states, including New Jersey and New York. The Complaint alleges that NVR discharged pollutants in storm water without permit coverage in violation of the Clean Water Act and failed to comply with the conditions of permits (state general permits) issued under Clean Water Act at a number of construction sites in New Jersey and New York.

The proposed Consent Decree provides for NVR to perform injunctive relief consisting of a nationwide management, inspection, reporting and training program to improve compliance with storm water requirements at NVR's current and future construction sites. The Consent Decree also provides for NVR to pay a civil penalty of $425,000.

The publication of this notice opens a period for public comment on the proposed Consent Decree. Comments should be addressed to the Assistant Attorney General, Environment and Natural Resources Division, and should refer to United States v. NVR, Inc., D.J. Ref. No. 90-5-1-1-10429. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $21.75 (25 cents per page reproduction cost) payable to the United States Treasury.

Robert E. Maher, Jr.,
Assistant Section Chief, Environmental Enforcement Section, Environment and Natural Resources Division.

[FR Doc. 2017-12835 Filed 6-19-17; 8:45 am]

BILLING CODE 4410-15-P